NUCLEAR REGULATORY COMMISSION

[Docket Nos. 50-335 and 50-389; NRC-2010-0363]

Florida Power and Light Company, St. Lucie Plant, Units 1 and 2; Environmental Assessment and Finding of No Significant Impact

The U.S. Nuclear Regulatory Commission (NRC or the Commission) is considering issuance of an exemption from Title 10 of the Code of Federal Regulations (10 CFR) Part 26, Section 26.9, for Facility Operating License Nos. DPR-67 and NPF-16, issued to Florida Power and Light Company, et al. (the licensee), for operation of St. Lucie Plant, Units 1 and 2, located on Hutchinson Island in St. Lucie County, Florida. Therefore, as required by 10 CFR 51.21, the NRC performed an environmental assessment. Based on the results of the environmental assessment, the NRC is issuing a finding of no significant impact.

Environmental Assessment

Identification of the Proposed Action

The proposed action would consider approval of an exemption for St. Lucie Plant, Units 1 and 2, from certain requirements of 10 CFR Part 26, “Fitness-for-Duty Rule.” Specifically, the licensee requests approval of an exemption from the requirements of 10 CFR 26.205(c), “Work hours scheduling,” and (d), “Work hour controls.”

The licensee states that during severe weather conditions, for example, tropical storms or hurricane force winds, adherence to all work hour controls requirements could impede the licensee's ability to use whatever staff resources may be necessary to prepare the site for a pending severe weather event and ensure that the plant reaches and maintains a safe and secure status.

The exemption would only apply to severe weather conditions where tropical storm or hurricane force winds are predicted onsite requiring severe weather preparations, and activation and sequestering of the St. Lucie storm crew.

The proposed exemption will allow the licensee to not meet the requirements of 10 CFR 26.205(c) and (d), from the time severe weather site preparation begins until exit conditions are satisfied. The exemption would only apply to individuals on the storm crew who perform duties identified in 10 CFR 26.4(a)(1) through (a)(5). When storm crew sequestering exit conditions are met, full compliance with 10 CFR 26.205(c) and (d) will be required.

The proposed action does not involve any physical changes to the reactor, fuel, plant, structures, support structures, water, or land at the St. Lucie Plant, Units 1 and 2, site.

The proposed action is in accordance with the licensee's application dated October 16, 2009.

The Need for the Proposed Action

Proposed action is needed because the licensee is unable to meet the requirements of 10 CFR 26.205(c) and (d) during declarations of severe weather conditions that could result due to prevailing tropical storm or hurricane force winds impacting the facility.

Compliance with work hour control requirements could impede the licensee's ability to use whatever staff resources may be necessary to respond to a plant emergency and ensure that the plant reaches and maintains a safe and secure status.

Environmental Impacts of the Proposed Action

The NRC staff has completed its environmental assessment of the proposed exemption. The NRC staff has concluded that the proposed exemption from the implementation of the requirements of 10 CFR 26.205(c) and (d) during declaration of severe weather conditions, would not significantly affect plant safety and would not have a significant adverse affect on the probability of occurrence of an accident.

The proposed action would not result in any increased radiological hazards beyond those previously evaluated by the NRC staff in the Safety Evaluation Reports, dated November 8 and November 7, 1974, related to operation of St. Lucie Plant, Units 1 and 2, respectively. No changes are being made in the types of effluents that may be released offsite. There is no significant increase in the amount of any effluent released offsite. There is no significant increase in occupational or public radiation exposure. Therefore, there are no significant radiological environmental impacts associated with the proposed action.

The proposed action does not result in changes to land use or water use, or result in changes to the quality or quantity of non-radiological effluents. No changes to the National Pollution Discharge Elimination System permit are needed. No effects on the aquatic or terrestrial habitat in the vicinity or the plant, or to threatened, endangered, or protected species under the Endangered Species Act, or impacts to essential fish habitat covered by the Magnuson-Stevens Act are expected. There are no impacts to the air or ambient air quality. There are no impacts to historical and cultural resources. There would be no noticeable effect on socioeconomic conditions in the region. Therefore, no changes or different types of non-radiological environmental impacts are expected as a result of the proposed action. Accordingly, the NRC concludes that there are no significant environmental impacts associated with the proposed action.

The licensee currently maintains a Hurricane Plan that provides directions for activation of the storm crew. The storm crew is activated upon the direction of the Emergency Coordinator, typically the site Plant General Manager or designee. This individual is qualified as an Emergency Coordinator during a declared emergency. The Plan provides specific entry conditions for the start of the emergency and specific conditions that will terminate the emergency. The licensee states that the impact on personnel manning for implementation of the site hurricane staffing and severe weather preparations is similar to entering the Emergency Plan. Although the proposed exemption would allow the licensee not to meet work hour controls during storm crew activation, sufficient numbers of management and supervision will be available during storm crew manning and activation to ensure that public health and safety is adequately protected.

The details of the staff's safety evaluation will be provided in the exemption that will be issued as part of the letter to the licensee approving the exemption to the regulation, if granted.

Environmental Impacts of the Alternatives to the Proposed Action

As an alternative to the proposed action, the staff considered denial of the proposed action (i.e., the “no-action” alternative). Denial of the exemption request would result in no change in current environmental impacts. If the proposed action were denied, the licensee would have to comply with the fatigue rules in 10 CFR 26.205(c) and (d). This would cause unnecessary burden on the licensee, without a significant benefit in environmental impacts. The environmental impacts of the proposed exemption and the “no action” alternative are similar.

Alternative Use of Resources

The action does not involve the use of any different resources than those considered in the Final Environmental Statement related to the St. Lucie Plant, Unit 1, dated June 1973; the Final Environmental Statement related to the operation of St. Lucie Plant, Unit 2 (NUREG-0842), dated April 1982; and, the plant-specific Supplement 11 to NUREG-1437, “Generic Environmental Impact Statement for License Renewal of Nuclear Power Plants” (GEIS). Supplement 11 of the GEIS, issued on May 16, 2003, addresses the renewal of operating licenses DPR-67 and NPF-16 for St. Lucie Plant, Units 1 and 2, for an additional 20 years of operation.

Agencies and Persons Consulted

In accordance with its stated policy, on September 7, 2010, the NRC staff consulted with the Florida State official, William A Passetti of the Bureau of Radiation Control, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated October 16, 2009 (Agencywide Documents Access and Management System (ADAMS) Accession No. ML092990394). Documents may be examined, and/or copied for a fee, at the NRC's Public Document Room (PDR), located at One White Flint North, Public File Area O1-F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 800-397-4209 or 301-415-4737, or send an e-mail to pdr.resource@nrc.gov.

Dated at Rockville, Maryland, this 19 day of November 2010.
For the Nuclear Regulatory Commission.
Tracy J. Orf,
Project Manager, Plant Licensing Branch II-2, Division of Operating Reactor Licensing, Office of Nuclear Reactor Regulation.

[FR Doc. 2010-29935 Filed 11-26-10; 8:45 am]

BILLING CODE 7590-01-P